RAILROAD RETIREMENT BOARD

Privacy Act of 1974; System of Records; (Railroad Retirement Board—Office of Personnel Management)

AGENCY: Railroad Retirement Board (RRB).

ACTION: Renewal of computer-matching program.

SUMMARY: As required by the Privacy Act of 1974, as amended, the RRB is issuing public notice of its renewal of an ongoing computer-matching program with the Office of Personnel Management (OPM) that expired on March 1, 2019. The purpose of this notice is to advise individuals applying for or receiving benefits under the Railroad Retirement Act of the use made by RRB of this information obtained from OPM by means of a computer match. We will file a report of this computer-matching program with the Committee on Homeland Security and Governmental Affairs of the Senate; the Committee on Oversight and Government Reform of the House of Representatives; and the Office of Information and Regulatory Affairs, Office of Management and Budget (OMB).

DATES: This matching program will take effect November 4, 2021. The matching program will continue for 18 months after the effective date and may be extended for an additional 12 months, if the conditions specified in 5 U.S.C. 552a(o)(2)(D) have been met, with an expiration date of April 1, 2024.

ADDRESSES: Interested parties may comment on this publication by writing to Ms. Stephanie Hillyard, Secretary to the Board, Railroad Retirement Board, 844 North Rush Street, Chicago, Illinois 60611-1275.

FOR FURTHER INFORMATION CONTACT: Mr. Timothy Grant, Associate Chief Information Officer, Railroad Retirement Board, 844 North Rush Street, Chicago, Illinois 60611-2092, telephone 312-751-4869 or email at tim.grant@rrb.gov.

SUPPLEMENTARY INFORMATION:

A. General

The Computer Matching and Privacy Protection Act of 1988, (Pub. L. 100-503), amended by the Privacy Act of 1974, (5 U.S.C. 552a) as amended, requires a Federal agency participating in a computer matching program to publish a notice in the Federal Register for all matching programs.

The Privacy Act, as amended, regulates the use of computer matching by Federal agencies when records contained in a Privacy Act System of Records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments. The last published notice for this matching program was March 1, 2018 (78 FR 70971).

B. RRB Computer Matches Subject to the Privacy Act

We have taken appropriate action to ensure that all of our computer matching programs comply with the requirements of the Privacy Act, as amended.

Notice of Computer Matching Program, RRB With the Office of Personnel Management (OPM)

Name of Participating Agencies: OPM and RRB.

Authority for Conducting the Matching Program: Sections 3(a)(1), 4(a)(1) and 4(f)(1) of the Railroad Retirement Act, as amended, 45 U.S.C. 231b(a)(1), 231c(a)(1) and 231c(f)(1) require that the RRB reduce the Railroad Retirement benefits of certain beneficiaries entitled to Railroad Retirement employee and/or spouse/widow benefits who are also entitled to a government pension based on their own non-covered earnings. We call this reduction a Public Service Pension (PSP) offset.

Section 224 of the Social Security Act, as amended, 42 U.S.C. 424a, provides for the reduction of disability benefits when the disabled worker is also entitled to a public disability benefit (PDB). We call this a PDB offset. A civil service disability benefit is considered a PDB. Section 224(h)(1) requires any Federal agency to provide RRB with information in its possession that RRB may require for the purposes of making a timely determination of the amount of reduction under section 224 of the Social Security Act. Pursuant to 5 U.S.C. Section 552a(b)(3) OPM has established routine uses to disclose the subject information to RRB.

Purpose of the Matching Program: The purpose of the match is to enable the RRB to (1) identify affected RRB annuitants who are in receipt of a Federal public pension benefit but who have not reported receipt of this benefit to the RRB, and (2) receive timely and accurate Federal public pension benefit information for affected RRB annuitants.

Categories of Individuals: Individuals receiving Federal public pensions or RRB annuities. Categories of Records: OPM will provide the RRB once a year via secure electronic file transfer, data extracted from its annuity and survivor master file of its Civil Service Retirement and Insurance Records. Normally on December of each year, OPM transmits to us approximately 2.5 million electronic records for matching. The records contain these data elements: Name, social security number, date of birth, civil service claim number, first potential month and year of eligibility for civil service benefits, first month, day, year of entitlement to civil service benefits, amount of current gross civil service benefits, and effective date (month, day, year) of civil service amount, and where applicable, civil service disability indicator, civil service FICA covered month indicator, and civil service total service months. The RRB will match the Social Security number, name, and date of birth contained in the OPM file against approximately the 1.2 million records in our files. For records that match, the RRB will extract the civil service payment information.

Systems of Records: The Privacy Act System of Records designation is OPM/Central-1, (Civil Service Retirement and Insurance Records), Published in the Federal Register on June 7, 2011 (76 FR 32997). The RRB Privacy Act System of Records is RRB-22, Railroad Retirement, Survivor, and Pensioner Benefit System, published in the Federal Register on May 15, 2015 (80 FR 28018).

Dated: September 30, 2021.
By authority of the Board.
Stephanie Hillyard,
Secretary to the Board.

[FR Doc. 2021-21670 Filed 10-4-21; 8:45 am]

BILLING CODE 7905-01-P